SUSQUEHANNA RIVER BASIN COMMISSION

Projects Approved for Consumptive Uses of Water

AGENCY: Susquehanna River Basin Commission.

ACTION: Notice.

SUMMARY: This notice lists the projects approved by rule by the Susquehanna River Basin Commission during the period set forth in DATES.

DATES: July 1-31, 2018.

ADDRESSES: Susquehanna River Basin Commission, 4423 North Front Street, Harrisburg, PA 17110-1788.

FOR FURTHER INFORMATION CONTACT: Jason E. Oyler, General Counsel, telephone: (717) 238-0423, ext. 1312; fax: (717) 238-2436; email: joyler@srbc.net. Regular mail inquiries may be sent to the above address.

SUPPLEMENTARY INFORMATION: This notice lists the projects, described below, receiving approval for the consumptive use of water pursuant to the Commission's approval by rule process set forth in 18 CFR 806.22(e) and 806.22(f) for the time period specified above:

Approvals by Rule Issued Under 18 CFR 806.22(f)

1. Seneca Resources Corporation, Pad ID: DCNR Tract 007 Pad D, ABR-201807001; Delmar Township, Tioga County, Pa.; Consumptive Use of Up to 4.0000 mgd; Approval Date: July 12, 2018.

2. Diversified Gas & Oil, LLC, Pad ID: Stubler Pad A, ABR-201305003.R1; Gamble Township, Lycoming County, Pa.; Consumptive Use of Up to 4.0000 mgd; Approval Date: July 13, 2018.

3. SWN Production Company, LLC, Pad ID: GU 04 Williams Aeppli, ABR-201309001.R1; Herrick Township, Bradford County, Pa.; Consumptive Use of Up to 4.9999 mgd; Approval Date: July 18, 2018.

4. SWN Production Company, LLC, Pad ID: Dropp-Range-Pad46, ABR-201308016.R1; Jackson Township, Susquehanna County, Pa.; Consumptive Use of Up to 4.9990 mgd; Approval Date: July 27, 2018.

5. Repsol Oil & Gas USA, LLC, Pad ID: ALDERSON (05 269), ABR-201807002; Pike Township, Bradford County, Pa.; Consumptive Use of Up to 6.0000 mgd; Approval Date: July 25, 2018.

6. Repsol Oil & Gas USA, LLC, Pad ID: BROADLEAF HOLDINGS (01 115), ABR-201807003; Springfield, Troy, and Columbia Townships, Bradford County, Pa.; Consumptive Use of Up to 6.0000 mgd; Approval Date: July 25, 2018.

7. EXCO Resources (PA), LLC, Pad ID: Chaapel Hollow Unit, ABR-201305016.R1; Gamble Township, Lycoming County, Pa.; Consumptive Use of Up to 8.0000 mgd; Approval Date: July 30, 2018.

8. EXCO Resources (PA), LLC, Pad ID: Poor Shot Pad 2 Unit, ABR-201309007.R1; Anthony Township, Lycoming County, Pa.; Consumptive Use of Up to 8.0000 mgd; Approval Date: July 30, 2018.

Authority: Pub. L. 91-575, 84 Stat. 1509 et seq., 18 CFR parts 806, 807, and 808.

Dated: October 4, 2018.
Stephanie L. Richardson,
Secretary to the Commission.

[FR Doc. 2018-22054 Filed 10-10-18; 8:45 am]

BILLING CODE 7040-01-P